DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons and vessels that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: This action was issued on December 31, 2025. See SUPPLEMENTARY INFORMATION section for relevant dates.

FOR FURTHER INFORMATION CONTACT: OFAC: Associate Director for Global Targeting, 202-622-2420; Assistant Director for Sanctions Compliance, 202-622-2490; or https://ofac.treasury.gov/contact-ofac.

SUPPLEMENTARY INFORMATION:

Electronic Availability

The SDN List and additional information concerning OFAC sanctions programs are available on OFAC's website: https://ofac.treasury.gov.

Notice of OFAC Action

On December 31, 2025, OFAC determined that the property and interests in property subject to U.S. jurisdiction of the following persons are blocked under the relevant sanctions authorities listed below.

Entities

1. KRAPE MYRTLE CO LTD, 149 Donggang Jiedao, Putuo Qu, Zhoushan, Zhejiang 316100, China; Rm D5 5/F King Yip Fty Bldg, 59 King Yip St, Kwun Tong, Kowloon, Hong Kong, China; Identification Number IMO 6342210; Registration Number 74094750 (Hong Kong) issued 31 May 2022 [VENEZUELA-EO13850].

Designated pursuant to section l(a)(i) of Executive Order 13850 of November 1, 2018, “Blocking Property of Additional Persons Contributing to the Situation in Venezuela,” 83 FR 55243, 3 CFR, 2018 Comp., p. 881, as amended by Executive Order 13857 of January 25, 2019, “Taking Additional Steps To Address the National Emergency With Respect to Venezuela,” 84 FR 509, 3 CFR 2019 Comp., p. 251 (E.O. 13850) for operating in the oil sector of the Venezuelan economy.

2. CORNIOLA LIMITED (a.k.a. CORNIOLA LTD), 149, Donggang Jiedao, Putuo Qu, Zhoushan, Zhejiang 316100, China; Rm 909 G 9/F Hunghom Coml Ctr Twr A, 39 Ma Tau Wai Rd, Hunghom, Kowloon, Hong Kong, China; Identification Number IMO 6434228; Registration Number 75612503 (Hong Kong) issued 14 Aug 2023 [VENEZUELA-EO13850].

Designated pursuant to section l(a)(i) of E.O. 13850 for operating in the oil sector of the Venezuelan economy.

3. WINKY INTERNATIONAL LIMITED, 14th Floor, Guangdong Investment Tower, 148 Connaught Road Central, Hong Kong, China; Majuro, Ajeltake Island 96960, Marshall Islands; Organization Established Date 01 Nov 2024; Registration Number 128617 (Marshall Islands) [VENEZUELA-EO13850].

Designated pursuant to section l(a)(i) of E.O. 13850 for operating in the oil sector of the Venezuelan economy.

4. ARIES GLOBAL INVESTMENT LTD (a.k.a. ARIES GLOBAL INVESTMENT LIMITED), Room 2611, 26th Floor, Southeast Technology R&D Center, 438, Jincheng Lu, Xiaoshan Qu, Hangzhou, Zhejiang, China; Rm A 20/F ZJ 300, 300 LOCKHART RD, Wan Chai, Hong Kong, China; Identification Number IMO 0052971; Registration Number 76957722 (Hong Kong) issued 19 Aug 2024 [VENEZUELA-EO13850].

Designated pursuant to section l(a)(i) of E.O. 13850 for operating in the oil sector of the Venezuelan economy.

On December 31, 2025, OFAC also identified the following vessels as property in which a blocked person has an interest under the relevant sanctions authority listed below.

Vessels

1. NORD STAR (3E7463) Crude Oil Tanker Panama flag; Vessel Year of Build 2006; Vessel Registration Identification IMO 9323596; MMSI 352003296 (vessel) [VENEZUELA-EO13850] (Linked To: KRAPE MYRTLE CO LTD; Linked To: CORNIOLA LIMITED).

Identified as property in which CORNIOLA LTD, and KRAPE MYRTLE CO LTD persons whose property and interests in property are blocked pursuant to E.O. 13850, have an interest.

2. DELLA (VRUB7) Crude Oil Tanker Hong Kong flag; Vessel Year of Build 2001; Vessel Registration Identification IMO 9227479; MMSI 477714500 (vessel) [VENEZUELA-EO13850] (Linked To: ARIES GLOBAL INVESTMENT LTD).

Identified as property in which ARIES GLOBAL INVESTMENT LTD, a person whose property and interests in property are blocked pursuant to E.O. 13850, has an interest.

3. VALIANT (VRXH3) Crude Oil Tanker Hong Kong flag; Vessel Year of Build 2009; Vessel Registration Identification IMO 9409247; MMSI 477206500 (vessel) [VENEZUELA-EO13850] (Linked To: ARIES GLOBAL INVESTMENT LTD).

Identified as property in which ARIES GLOBAL INVESTMENT LTD, a person whose property and interests in property are blocked pursuant to E.O. 13850, has an interest.

4. ROSALIND (a.k.a. LUNAR TIDE) Oil Products Tanker Guinea flag; Vessel Year of Build 2004; Vessel Registration Identification IMO 9277735 (vessel) [VENEZUELA-EO13850] (Linked To: WINKY INTERNATIONAL LIMITED).

Identified as property in which WINKY INTERNATIONAL LIMITED, a person whose property and interests in property are blocked pursuant to E.O. 13850, has an interest.

Lisa M. Palluconi,
Deputy Director, Office of Foreign Assets Control.

[FR Doc. 2026-00014 Filed 1-5-26; 8:45 am]

BILLING CODE 4810-AL-P